DEPARTMENT OF JUSTICE

[OMB Number 1190-0018]

Agency Information Collection Activities; Proposed eCollection; eComments Requested; OSC Charge Form

AGENCY: Civil Rights Division, Department of Justice.

ACTION: 30-Day notice.

SUMMARY: The Department of Justice, Civil Rights Division, Office of Special Counsel for Immigration-Related Unfair Employment Practices, will be submitting the following information collection request to the Office of Management and Budget for review and approval in accordance with the Paperwork Reduction Act of 1995. This proposed information collection was previously published in the Federal Register at 81 FR 24129, on April 25, 2016, allowing for a 60-day comment period.

DATES: The purpose of this notice is to allow for an additional 30 days for public comment until August 1, 2016.

FOR FURTHER INFORMATION CONTACT: If you have comments especially on the estimated public burden or associated response time, suggestions, or need a copy of the proposed information collection instrument with instructions or additional information, please contact Alberto Ruisanchez, Deputy Special Counsel, USDOJ-CRT-OSC, 950 Pennsylvania Avenue NW-NYA, Washington, DC 20530. Written comments and/or suggestions can also be directed to the Office of Management and Budget, Office of Information and Regulatory Affairs, Attention Department of Justice Desk Officer, Washington, DC 20503 or sent to OIRA_submissions@omb.eop.gov.

Written comments and/or suggestions are requested from the public and affected agencies concerning the proposed collection of information. Your comments should address one or more of the following four points:

(1) Evaluate whether the collection of information is necessary for the proper performance of the function of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, mechanical, or other technological collection techniques or other forms of information technology.

The information collection is listed below:

(1) Type of information collection: Extension of Currently Approved Collection.

(2) The title of the form/collection: Office of Special Counsel for Immigration-Related Unfair Employment Practices Charge Form [OSC Charge Form].

(3) The agency form number and applicable component of the Department sponsoring the collection. Form OSC-1. Office of Special Counsel for Immigration-Related Unfair Employment Practices, Civil Rights Division, U.S. Department of Justice.

(4) Affected public who will be asked to respond, as well as a brief abstract: Primary: The Office of Special Counsel for Immigration-Related Unfair Employment Practices (OSC) enforces the anti-discrimination provision (§ 274B) of the Immigration and Nationality Act (INA), 8 U.S.C. 1324b. The statute prohibits: (1) Citizenship or immigration status discrimination in hiring, firing, or recruitment or referral for a fee, (2) national origin discrimination in hiring, firing, or recruitment or referral for a fee, (3) unfair documentary practices during the employment eligibility verification (Form I-9 and E-Verify) process, and (4) retaliation or intimidation for asserting rights covered by the statute. OSC, within the Department's Civil Rights Division, investigates and, where reasonable cause is found, litigates charges alleging discrimination. OSC also initiates independent investigations, at times based on information developed during individual charge investigations. Independent investigations normally involve alleged discriminatory policies that potentially affect many employees or applicants. These investigations may result in complaints alleging a pattern or practice of discriminatory activity. If the Department lacks jurisdiction over a particular charge but believes another agency with which OSC has a Memorandum of Understanding providing for cross referrals (OSC has over fifty MOU partners) has jurisdiction over the claim, the completed form will be forwarded to the appropriate agency, thus avoiding any duplicative requests for information. OSC will also refer Respondents to non-MOU partner agencies where appropriate.

(5) An estimate of the total number of respondents and the amount of time estimated for an average respondent to respond: 210 respondents per year at 30 minutes per charge form.

(6) An estimate of the total public burden (in hours) associated with the collection: 105 hours annual burden hours associated with this collection.

If additional information is required contact: Jerri Murray, Department Clearance Officer, United States Department of Justice, Policy and Planning Staff, Justice Management Division, Two Constitution Square, 145 N Street NE., Room 3E.405B, Washington, DC 20530.

Dated: June 27, 2016.
Jerri Murray,
Department Clearance Officer for PRA, U.S. Department of Justice.

[FR Doc. 2016-15490 Filed 6-29-16; 8:45 am]

BILLING CODE 4410-13-P